DEPARTMENT OF LABOR

Employment and Training Administration

[NAFTA-5467]

Commercial Warehouse and Cartage, Inc., El Paso, Texas; Notice of Revised Determination on Reconsideration

By application of January 25, 2002, the company, requested administrative reconsideration of the Department's denial regarding eligibility to Apply for North American Free Trade Agreement-Transitional Adjustment Assistance (NAFTA-TAA), applicable to workers and former workers of the subject firm. The denial notice was issued on December 21, 2001 and published in the Federal Register on January 11, 2002 (67 FR 1510).

Workers were engaged in employment related to the production of surgical blankets. That worker group is separately identifiable from other functions performed at the subject plant.

The workers were denied NAFTA-TAA on the basis that there was no shift in production to Mexico or Canada, nor did imports from Canada or Mexico contribute importantly to workers' separations.

The company in their request for administrative reconsideration indicated that the subject plant production of surgical blankets was shifted to Mexico.

Upon further clarification from the company, it became clear that the subject firm did not shift company production to Mexico. However, it became apparent that the subject firm's major customer who owned the machinery at the subject plant shifted production that was produced at the subject plant to an affiliated plant located in Juarez, Mexico. The customer was contacted and confirmed that the production of surgical blankets which was performed at the subject firm was in fact being produced at an affiliated facility plant located in Juarez, Mexico. That facility produced the same product (surgical blankets) as the subject firm prior to the closure of the subject firm and that the Mexican facility has been importing all production of surgical blankets to the United States to be sold to domestic and foreign customers. The customer further reported that they increased their reliance on imported surgical blankets from Mexico during the relevant period of the investigation.

Conclusion

After careful review of the facts obtained in the investigation, I conclude that there was an increase in imports from Mexico of surgical blankets that are like or directly competitive with those produced by the subject firm. In accordance with the provisions of the Trade Act, I make the following certification:

“All workers of Commercial Warehouse and Cartage, Inc., El Paso, Texas engaged in activities related to the production of surgical blankets, who became totally or partially separated from employment on or after October 24, 2000, through two years from the date of certification, are eligible to apply for NAFTA-TAA under section 250 of the Trade Act of 1974.”

Signed at Washington, DC this 29th day of March 2002.
Edward A. Tomchick,
Director, Division of Trade Adjustment Assistance.

[FR Doc. 02-9343 Filed 4-16-02; 8:45 am]

BILLING CODE 4510-30-M